ENVIRONMENTAL PROTECTION AGENCY

[ER-FRL-6659-4]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167.

An explanation of the ratings assigned to draft environmental impact statements (EISs) was published in FR dated April 02, 2004 (69 FR 17403).

Draft EISs

ERP No. D-AFS-J65421-00 Rating EC1, Grizzly Bear Conservation for the Greater Yellowstone Area National Forests, Implementation, Amend Six Forest Plans: Beaverhead-Deerlodge National Forest, Bridger-Teton National Forest, Caribou-Targhee National Forest, Custer National Forest, Gallatin National Forest and Shoshone National Forest, MT, WY and ID.

Summary: EPA expressed environmental concerns that the preferred alternative did not include protection measures to reduce conflicts between grizzly bears and other Forest uses and to enhance food security and habitat protections included in other alternatives. EPA believes these measures would improve water quality, fish and wildlife, and other natural resources and should be considered in the Final EIS.

ERP No. D-AFS-J65423-UT Rating EC2, Reissuance of 10-Year Term Grazing Permits to Continue Authorize Grazing on Eight Cattle Allotments, Permit Reissuance, Fishlake National Forest, Beaver Mountain Tushar Range, Millard, Piute, Garfield, Beaver and Iron Counties, UT.

Summary: EPA expressed environmental concerns with potential adverse impacts to aquatic resources, water quality, and wildlife habitats as well as soil erosion from continued grazing as proposed in the Draft EIS. The Final EIS should consider greater use of upland areas, include specific guidelines and measures for future adaptive management processes and ensure resources for education, enforcement of permit standards, mitigation and monitoring.

ERP No. D-AFS-J65427-WY Rating EC2, Cottonwood II Vegetation Management Project, Proposal to Implement Vegetation Management in the North and South Cottonwood Creek Drainages, Bridger-Teton National Forest, Big Piney Ranger District, Sublette County, WY.

Summary: EPA has environmental concerns about potential adverse impacts to water quality, aquatic habitat and wildlife resources, soil condition and impacts to fish and wildlife, especially sensitive species. In addition, the Final EIS should include the value of recreation and impacts to recreation related business to assess the full range of potential socio-economic impacts.

ERP No. D-AFS-J65429-CO Rating EC2, Village at Wolf Creek Project, Application for Transportation and Utility Systems and Facilities, Proposed Development and Use of Roads and Utility Corridors Crossing, National Forest System Lands to Access 287.5 Acres of Private Property Land, Mineral County, CO.

Summary: EPA expressed environmental concerns with potential adverse impacts to wetlands, water quality and quantity, aquatic habitat, air quality and wildlife, (including lynx and Rio Grande Cut Throat Trout). The Final EIS should include an analysis and quantification of indirect impacts, including impacts from reasonably foreseeable actions and mitigation measures.

ERP No. D-AFS-J65430-MT Rating EC2, McSutten Decision Area, Implementation of Harvest and Associated Activities, Prescribed Burning, and Road Management, Kootenai National Forest, Rexford Ranger District, Lincoln County, MT.

Summary: EPA supports the project purpose and need, but expressed environmental concerns regarding proposed timber harvests on sensitive soils and potential water quality impacts.

ERP No. DS-AFS-J02027-UT Rating EC2, Table Top Exploratory Oil and Gas Wells, New Information from the Approval 1994 Final EIS, Wasatch-Cache National Forest, Evanston Ranger District, Summit County, UT.

Summary: EPA expressed concerns about the lack of detail given in the mitigation plans to protect the lynx. The Final EIS should include mitigation measures to reduce potential adverse air impacts from flaring during periods with atmospheric inversions.

Final EISs

ERP No. F-AFS-H65021-MO East Fredericktown Project, To Restore Shortleaf Pine, Improve Forest Health, Treat Affected Stands and Recover Valuable Timber Products, Mark Twain National Forest, Potosi/Fredericktown Ranger District, Bollinger, Madison, St. Francois and Ste. Genevieve Counties, MO.

Summary: The Final EIS adequately addressed EPA's issues raised in the comments on the Draft EIS.

ERP No. F-AFS-J65415-MT Robert-Wedge Post-Fire Project, Salvage Trees and Rehabilitate Lands, Flathead National Forest, Glacier View Ranger District, Flathead County, MT.

Summary: EPA is concerned that logging in areas of high burn severity may result in detrimental soil and water quality effects, and increased erosion and sediment production and supports the use of less damaging logging techniques. EPA also expressed environmental concerns regarding road management activities.

ERP No. F-AFS-J65420-SD Southeast Geographic Area Rangeland Management on National Forest System Lands of the Buffalo Gap National Grassland, To Implement Best Management Grazing Practices, Buffalo Gap National Grassland, Falls River Ranger District, Fall River County, SD.

Summary: EPA's main concerns relate to continuing adverse impacts from livestock grazing to: (1) Streams, riparian zones, and wetlands; (2) fecal coliform and other bacteria, sediment, and other impacts that are impairing beneficial uses for warmwater fish and other aquatic life; and (3) the need for better riparian protections to manage livestock activities that cause adverse impacts to fish and other aquatic life and their habitats.

ERP No. F-AFS-J65422-MT West Side Reservoir Post-Fire Project, Proposed Implementation of Timber Salvage and Access Management Treatments, Flathead National Forest, Hungry Horse and Spotted Bear Ranger Districts, Flathead County, MT.

Summary: EPA supports less damaging logging methods proposed and project modifications to reduce potential adverse effects. However, EPA is still concerned that post-fire logging may impact soils, water quality, and wildlife habitat (particularly habitat of the threatened grizzly bear).

ERP No. F-AFS-L65456-AK Resurrection Creek Stream and Riparian Restoration Project, Proposes to Accelerate the Recovery of Riparian Areas, Fish and Wildlife Habitat, Chugach National Forest, Seward Ranger District, Kenai Peninsula Borough, AK.

Summary: No formal comment letter was sent to the preparing agency.

ERP No. F-AFS-L65457-OR Crooked River National Grassland Vegetation Management/Grazing, Vegetation Treatments and Grazing Disposition, Ochoco National Forest, Jefferson County, OR.

Summary: EPA expressed lack of objections and supports the USFS efforts to work with watershed councils and ODEQ to develop Water Quality Management Plans for the streams within the Grasslands which do not meet ambient water quality standards.

Dated: January 4, 2005.
Robert W. Hargrove,
Director, NEPA Compliance Division, Office of Federal Activities.

[FR Doc. 05-345 Filed 1-6-05; 8:45 am]

BILLING CODE 6560-50-P